NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: April 18, 2018; 1:30 p.m.-6:00 p.m.; April 19, 2018; 8:30 a.m.-2:00 p.m.

Place: National Science Foundation, 2415 Eisenhower Avenue, Alexandria, Virginia 22314, Room E 2030.

Type of Meeting: Open.

Contact Person: Andrew Backe, National Science Foundation, Room W 7134, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

April 18, 2018; 1:30 p.m.-6:00 p.m.

• Opening Remarks and Introductions

• Harassment Policy

• Antarctic Infrastructure Modernization for Science (AIMS) Communications Planning

• Polar Science Updates

• Navigating the New Arctic Big Idea

• OPP Strategic Planning—Part I

April 19, 2018; 8:30 a.m.-2:00 p.m.

• OPP Strategic Planning—Part II

• Meeting with the NSF Director and COO

• Polar Research Vessels and Icebreakers

• Wrap-up and Action Items

Dated: March 19, 2018.
Crystal Robinson,
Committee Management Officer.

[FR Doc. 2018-05819 Filed 3-21-18; 8:45 am]

BILLING CODE 7555-01-P